DEPARTMENT OF HOMELAND SECURITY

Federal Emergency Management Agency

[Docket ID FEMA-2019-0004; OMB No. 1660-0011]

Agency Information Collection Activities: Proposed Collection; Comment Request; Submission for OMB Review; Comment Request; Debt Collection Financial Statement; Correction

AGENCY: Federal Emergency Management Agency, DHS.

ACTION: Notice and request for comments; correction.

SUMMARY: The Federal Emergency Management Agency (FEMA) published a document in the Federal Register of February 28, 2020, concerning a request for comments on an information collection request. The document contained errors, including an incorrect date. This notice corrects those errors and allows for a 30-day comment period.

FOR FURTHER INFORMATION CONTACT: You may contact the Information Management Division at email address FEMA-Information-Collections-Management@fema.dhs.gov or Zita Zduoba, FEMA Finance Center, Office of the Chief Financial Officer, at (540) 504-1613.

SUPPLEMENTARY INFORMATION:

Correction

In the Federal Register of February 28, 2020, in FR Doc. 2020-04128, on page 12001, make the following corrections:

1. In the first column, correct the DATES caption to read as follows:

DATES: Comments must be submitted on or before April 6, 2020.

2. In the first column, under the ADDRESSES caption, correct the second paragraph to read as follows:

(1) Online. Submit comments at www.regulations.gov under Docket ID FEMA-2019-0004. Follow the instructions for submitting comments.

3. In the third column, in the sixth paragraph, correct “$41,661” to read “$43,828”.

Maile Arthur,
Acting Records Management Branch Chief, Office of the Chief Administrative Officer, Mission Support, Federal Emergency Management Agency, Department of Homeland Security.

[FR Doc. 2020-04499 Filed 3-4-20; 8:45 am]

BILLING CODE 9111-19-P